NATIONAL AERONAUTICS AND SPACE ADMINISTRATION

[Notice 04-069]

NASA Advisory Council, Education Advisory Committee; Meeting

AGENCY: National Aeronautics and Space Administration.

ACTION: Notice of Meeting.

SUMMARY: In accordance with the Federal Advisory Committee Act, Public Law 92-463, as amended, the National Aeronautics and Space Administration announces a meeting of the NASA Advisory Council, Education Advisory Committee.

DATES: Thursday, June 24, 2004, Noon to 5:45 p.m.; Friday, June 25, 2004, 8:30 a.m. to Noon.

ADDRESSES: Hilton Houston NASA Clear Lake, 3000 NASA Road 1, Houston, TX 77058.

FOR FURTHER INFORMATION CONTACT: Ms. Mei Mei Peng, Code N, National Aeronautics and Space Administration, Washington, DC, 20546, (202) 358-1614.

SUPPLEMENTARY INFORMATION: The meeting will be open to the public up to the seating capacity of the room. The agenda for the meeting is as follows:

—Introduction by Dr. William Harvey, Chairman of the NASA Education Advisory Committee

—Comments by Dr. Adena Williams Loston, Associate Administrator for Education

—Presentation on the Impact of the Educator Astronaut Program on Elementary and Secondary Education by Ms. Barbara Morgan, Educator Astronaut

—Updates in relation to recommendations from the February 2004 Education Advisory Committee Meeting

—Open discussion and a review of action items from the February 2004 Education Advisory Committee Meeting

Persons with disabilities who require assistance should indicate this. It is imperative that the meeting be held on this date to accommodate the scheduling priorities of the key participants.

R. Andrew Falcon,
Advisory Committee Management Officer, National Aeronautics and Space Administration.

[FR Doc. 04-11459 Filed 5-20-04; 8:45 am]

BILLING CODE 7510-01-P